ENVIRONMENTAL PROTECTION AGENCY

[FRL-9674-9]

Notice of Proposed Administrative Settlement Pursuant to the Comprehensive Environmental Response, Compensation, and Liability Act

AGENCY: Environmental Protection Agency.

ACTION: Notice; request for public comment.

SUMMARY: In accordance with Section 122(i) of the Comprehensive Environmental Response, Compensation, and Liability Act, as amended (“CERCLA”), 42 U.S.C. 9622(i), notice is hereby given of a proposed administrative settlement concerning the Malone Service Company Superfund Site, Texas City, Galveston County, Texas.

The settlement requires the six (6) settling parties to pay a total of $32,722 as payment of response costs to the Hazardous Substances Superfund. The settlement includes a covenant not to sue pursuant to Section 107 of CERCLA, 42 U.S.C. § 9607.

For thirty (30) days following the date of publication of this notice, the Agency will receive written comments relating to this notice and will receive written comments relating to the settlement. The Agency will consider all comments received and may modify or withdraw its consent to the settlement if comments received disclose facts or considerations which indicate that the settlement is inappropriate, improper, or inadequate. The Agency's response to any comments received will be available for public inspection at 1445 Ross Avenue, Dallas, Texas 75202-2733.

DATES: Comments must be submitted on or before June 21, 2012.

ADDRESSES: The proposed settlement and additional background information relating to the settlement are available for public inspection at 1445 Ross Avenue, Dallas, Texas 75202-2733. A copy of the proposed settlement may be obtained from Kevin Shade at 1445 Ross Avenue, Dallas, Texas 75202-2733 or by calling (214) 665-2708. Comments should reference the Malone Service Company Superfund Site, Texas City, Galveston County, Texas and EPA Docket Number 06-09-11, and should be addressed to Kevin Shade at the address listed above.

FOR FURTHER INFORMATION CONTACT: I-Jung Chiang, Assistant Regional Counsel, 1445 Ross Avenue, Dallas, Texas 75202-2733 or call (214) 665-2160.

Dated: May 9, 2012.
Samuel Coleman,
Acting Regional Administrator

[FR Doc. 2012-12361 Filed 5-21-12; 8:45 am]

BILLING CODE 6560-50-P